DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer on (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Patient Navigator Outreach and Chronic Disease Prevention Demonstration Program Patient Data Collection Form—NEW

The purpose of the Patient Navigator Outreach and Chronic Disease Prevention (PN) Demonstration Program is to promote model “patient navigator” programs to improve health care outcomes for individuals with cancer and/or other chronic diseases, with a specific emphasis on health disparity populations. This program aims to coordinate comprehensive health services for patients in need of chronic disease care and management through enhanced chronic disease management provided by patient navigators.

In order to describe successful PN program models and make recommendations on the ability of such programs to improve patient outcomes, data is needed at the individual patient, patient navigator, and PN program levels. This information includes:

• Sociodemographics of patients (e.g., insurance status, income, education level, gender, age, race and ethnicity, primary language, number of family dependents) served;

• Patient access barriers to standard chronic disease care (e.g., access to pharmaceuticals, distance of patient's home from health care facilities utilized, primary mode of transportation to health care facilities utilized, cultural and linguistic barriers as well as literacy levels);

• Health care service utilization (e.g., screening rates, compliance rate for appointments and follow-up exams, time interval between diagnosis or referral and resolution date);

• Patient health status (e.g., type and stage of diagnosis, chronic disease status, final outcome or result); and

• Patient navigation data (e.g., type of navigator, patient navigation training plans and outcomes, point at which patient navigator was brought into the process, number of patients referred, how patient barriers were resolved, patient satisfaction, follow-up outcomes—such as number of uninsured who get health coverage).

This information will be collected from patients or their designated caregiver, patient navigators, and PN program administrators. Maintaining confidentiality of patient medical information is a concern and thus all personal information will be de-identified to protect the confidentiality of all patients. Data collection and disclosure processes will abide by Health Insurance Portability and Accountability Act (HIPPA) Privacy Rule provisions and procedures. The estimated annual burden is as follows:

Form | Number of respondents | Responses per respondent | Total responses | Hours per response | Total burden hours
Navigated Patient ¹ Data Intake Form | 6,000 | 1 | 6,000 | 0.5 | 3,000
Navigated Patient Satisfaction Survey | 6,000 | 1 | 6,000 | 0.25 | 1,500
SubTotal—Patient Burden | 6,000 | 2 | 1,2000 | 0.75 | 4,500
Patient Navigator Survey | 30 | 1 | 30 | 0.25 | 7.5
Patient Navigator Encounter/Tracking Log ² | 30 | 750 | 22,500 | 0.25 | 5,625
SubTotal—Patient Navigator Burden | 30 | 751 | 22,530 | 0.5 | 5,632.5
Grantee PN Administrative Records ³ | 6 | 1 | 6 | 0.5 | 3
Medical Record and Clinic Data ⁴ | 6 | 2,000 | 12,000 | 2 | 24,000
SubTotal—Grantee Burden | 12 | 2,001 | 12,012 | 2.5 | 24,006
Total Average Annual Burden | 6,052 | 2,754 | 54,052 | 3.75 | 36,016
¹ Estimated number of navigated patients per year based on applications was rounded to 6000. See table below for projected numbers navigated by Grantee.
² Assumes 5 log entries of PN activities per patient.
³ Includes administrative data related to PN recruitment, hiring, and training.
⁴ Includes medical record abstraction and clinic database abstraction on individual patients (note: decreased to 2 hours per patient).

| Over 2 yrs | Annual
Goodwin | 400 | 200
Lutheran | 650 | 325
Northeast | 6,000 | 3,000
Palmetto | 3,000 | 1,500
South Broward | 2,200 | 1,100
Texas Tech | 500 | 250
Total | 12,750 | 6,375

E-mail comments to paperwork@hrsa.gov or mail the HRSA Reports Clearance Officer, Room 10-33, Parklawn Building, 5600 Fishers Lane, Rockville, MD 20857. Written comments should be received within 60 days of this notice.

Dated: November 20, 2008.
Alexandra Huttinger,
Director, Division of Policy Review and Coordination.

[FR Doc. E8-28048 Filed 11-25-08; 8:45 am]

BILLING CODE 4165-15-P